DEPARTMENT OF COMMERCE

National Oceanic and Atmospheric Administration

[I.D. 120302E]

Marine Mammals; File No. 848-1695

AGENCY: National Marine Fisheries Service (NMFS), National Oceanic and Atmospheric Administration (NOAA), Commerce.

ACTION: Receipt of application.

SUMMARY: Notice is hereby given that the Marine Mammal Research Program, Southwest Fisheries Science Center, Honolulu Laboratory, 2570 Dole Street, Honolulu, HI 96822 (Principal Investigator, Dr. Bud Antonelis), has applied in due form for a permit to take Hawaiian monk seals (Monachus schauinslandi) for purposes of scientific research and enhancement.

DATES: Written or telefaxed comments must be received on or before February 21, 2003.

ADDRESSES: The application and related documents are available for review upon written request or by appointment in the following office(s):

Permits, Conservation and Education Division, Office of Protected Resources, NMFS, 1315 East-West Highway, Room 13705, Silver Spring, MD 20910; phone (301)713-2289; fax (301)713-0376;

Assistant Administrator for Protected Resources, Southwest Region, NMFS, 501 West Ocean Blvd., Suite 4200, Long Beach, CA 90802-4213; phone (562)980-4020; fax (562)980-4027; and

Protected Species Program Coordinator, Pacific Islands Area Office, NMFS, 1601 Kapiolani Blvd., Rm, 1110, Honolulu, HI 96814-4700; phone (808)973-2935; fax (808)973-2941.

FOR FURTHER INFORMATION CONTACT: Amy Sloan or Ruth Johnson, (301)713-2289.

SUPPLEMENTARY INFORMATION: The subject permit is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

The applicant proposes to take Hawaiian monk seals over a five year period for purposes of 1) population assessment (monitoring, tagging and retagging, bleach marking, genetics analyses) to determine survivorship, reproductive rates, pup production, incidence and causes of injury or mortality, and abundance; 2) disease and health assessment (health screening and treatment of ill animals, necropsies, analyses of parasites, dietary analyses) to gain information on pathogens and other factors that affect individual animals; and 3) recovery actions (relocations and translocations, adult male removals, and disentanglements) to enhance the survival of the population.

Annual takes are summarized as follows: Up to 1500 seals may be disturbed up to three times during ground monitoring on the Hawaiian Archipelago and Johnston Atoll. Up to 50 seals may be disturbed up to 10 times during aerial surveys in the Main Hawaiian Islands and adjacent islets, Kaula Rock, Necker Island, and Nihoa Island. Up to 416 seals (excluding lactating females and nursing pups) may be restrained, flipper and PIT tagged with flipper tissue plugs retained for genetics analyses, swab samples, and morphometrics taken; and up to 100 may be restrained, retagged, with flipper tissue plugs retained, swab samples and morphometrics taken. Up to 1500 seals may be bleach marked up to two times. Tagging and bleach marking may occur on the Hawaiian Archipelago and Johnston Atoll.

Up to 20 healthy seals (excluding lactating females and nursing pups) may be restrained, sedated, sampled (morphometrics, blood, blubber biopsy, and swabs), and instrumented with satellite and VHF transmitters (restraint and sampling may occur up to two times if animals subsequently show signs of illness) on the Main Hawaiian Islands. Up to 30 unhealthy seals (excluding lactating females and nursing pups) may be restrained, sedated, medically treated on site, and sampled as above (sedation, extent of sampling, and treatment will be at discretion of consulting veterinarian) up to two times in the Hawaiian Archipelago. Humane euthanasia may be performed on up to five severely debilitated or moribund seals at the discretion of the attending veterinarian.

Up to five nursing pups who have suckled less than half their nursing period and have lost contact with their mother may be restrained, swab samples taken, and relocated to a foster mother. Up to 25 weaned pups located in an area determined to be of high risk of mortality or areas of high human activity, may be restrained, swab samples taken, and relocated to a safer area. Up to 20 weaned pup and/or juvenile seals in an area of poor juvenile survival may be captured, restrained, sedated, sampled (morphometrics, blood, blubber biopsy, and swabs), temporarily held, medically treated, translocated to an island or atoll with higher juvenile survival, and released. All pup and juvenile relocations may occur on the Hawaiian Archipelago. Up to 10 adult male seals on the Hawaiian Archipelago that are known to have caused mortality to nursing pups, weaned pups, or immature seals may be captured, restrained, sedated, sampled (blood, biopsy, swabs), and relocated to the Main Hawaiian Islands or Johnston Atoll, placed in permanent captivity, or humanely euthanized. Up to 15 seals of any age or sex may be captured, disentangled, and released on the Hawaiian Archipelago or Johnston Atoll, in cooperation with the Marine Mammal Health and Stranding Response Program.

An unlimited number of seal carcasses may be necropsied and tissues analyzed in cooperation with the Marine Mammal Health and Stranding Response Program, an unlimited number of parts (molted fur/skin, placentae) salvaged, and an unlimited number of scat and spew samples may be collected at haul out sites along the Hawaiian Archipelago. An unlimited number of specimens (hard and soft parts including but not limited to blood serum, blubber biopsy, and placentae) may be exported to countries (including but not limited to Canada, the Netherlands, Scotland, and Australia) for scientific analyses related to health assessment of monk seals; samples not used in analyses may be re-imported. An unlimited number of specimens (hard and soft parts) from Mediterranean monk seals (Monachus monachus) may be imported to the U.S. and re-exported to the country of origin for opportunistic research related to the conservation of monk seals. Up to 200 monk seals may be incidentally disturbed up to two times during the research and enhancement activities. Up to 140 adult green sea turtles (Chelonia mydas) may be incidentally disturbed during research and enhancement activities. Up to five accidental mortalities of monk seals that are captured and sedated are requested over the five year period.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: January 15, 2003.
Eugene T. Nitta,
Acting Chief, Permits, Conservation and Education Division, Office of Protected Resources, National Marine Fisheries Service.

[FR Doc. 03-1378 Filed 1-21-03; 8:45 am]

BILLING CODE 3510-22-S